DEPARTMENT OF ENERGY

[GDO Docket No. EA-503]

Application for Authorization To Export Electric Energy; CWP Energy, Inc.

AGENCY: Grid Deployment Office, Department of Energy.

ACTION: Notice of application.

SUMMARY: CWP Energy, Inc. (the Applicant or CWP Energy) has applied for authorization to transmit electric energy from the United States to Mexico pursuant to the Federal Power Act.

DATES: Comments, protests, or motions to intervene must be submitted on or before October 30, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On January 3, 2017, DOE issued Order No. EA-429 authorizing CWP Energy to transmit electric energy from the United States to Mexico as a power marketer. On May 3, 2017, DOE issued Order No. EA-429-A to reflect CWP Energy's corporate name change and incorporated all other terms and conditions as originally described in Order No. EA-429. On June 29, 2023, CWP Energy filed an application with DOE (Application or App.) for renewal of its export authority for an additional five-year term. App. at 1. The Application noted that Order No. EA-429-A lapsed on January 3, 2022, and CWP Energy continued to engage in transactions during the lapsed period. Id. and n.1.

In Order No. EA-429, DOE indicated that, “continuing to export after the expiration of [a valid] order [to export electricity], may result in a denial of authorization of export in the future and subject the exporter to sanctions and penalties under the FPA.” Order No. EA-429 at 9. Because the Applicant's prior authorization in Order No. EA-429-A has long expired, DOE has determined that granting a renewal of such authorization would not be appropriate. Instead, DOE will treat CWP Energy's submission as an application for a new authorization.

In its Application, CWP Energy states it “is a Canadian Corporation with its principal place of business in Montréal, Québec, Canada.” App. at 3. The Applicant further states it “is owned 89.9% by McGill-St. Laurent and 10.1% by Investissements AFA Inc. McGill-St. Laurent is owned by two individuals, Mr. Phillipe Boisclair, as a majority owner, and Mr. Christian L'Abbe, as a minority owner.” Id. The Applicant further indicates that, “Mr. Boisclair and Mr. L'Abbe do not have any ownership interest or involvement in any other company that is a traditional utility or that owns, operates, or controls any electric generation, transmission or distribution facilities, nor do they have any direct involvement with the energy industry other than through the ownership of CWP Energy and its affiliates.” Id. In addition, “Investissements AFA Inc. is owned by Mr. Alain Brisebois” and he “does not have any ownership interest or involvement in any other company that is a traditional utility or that owns, operates, or controls any electric generation, transmission or distribution facilities, nor does he have any direct involvement with the energy industry other than through his ownership, and in his capacity as President, of CWP Energy.” Id. CWP Energy represents that it “will purchase power to be exported from a variety of sources such as power marketers, independent power producers, or U.S. electric utilities and federal power marketing entities as those terms are defined in Sections 3(22) and 3(19) of the FPA.” Id. at 5. CWP Energy also states that, “[b]y definition, such power is surplus to the system of the generator and, therefore, the electric power that CWP Energy will export on either a firm or interruptible basis will not impair the sufficiency of the electric power supply within the U.S.” Id.

The existing international transmission facilities to be utilized by the Applicant have been previously authorized by Presidential Permits issued pursuant to Executive Order 10485, as amended, and are appropriate for open access transmission by third parties. Id. at Exhibit C.

Procedural Matters: Any person desiring to be heard in this proceeding should file a comment or protest to the Application at Electricity.Exports@hq.doe.gov. Protests should be filed in accordance with Rule 211 of the Federal Energy Regulatory Commission's (FERC) Rules of Practice and Procedure (18 CFR 385.211). Any person desiring to become a party to this proceeding should file a motion to intervene at Electricity.Exports@hq.doe.gov in accordance with FERC Rule 214 (18 CFR 385.214).

Comments and other filings concerning CWP Energy's Application should be clearly marked with GDO Docket No. EA-503. Additional copies are to be provided directly to Ruta Kalvaitis Skučas and Chimera N. Thompson, K&L Gates LLP, 1601 K St. NW, Washington, DC 20006, ruta.skucas@klgates.com; and Alain Brisebois, CWP Energy, 407 McGill Street, Suite 315, Montreal, PQ, H2Y 2G3, Alain@cwpenergy.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, on the program website at https://www.energy.gov/gdo/pending-applications-0 or by emailing Electricity.Exports@hq.doe.gov.

Signing Authority: This document of the Department of Energy was signed on September 21, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 26, 2023.
Treena V. Garrett,
Federal Register Liaison Officer, U.S. Department of Energy.

[FR Doc. 2023-21409 Filed 9-28-23; 8:45 am]

BILLING CODE 6450-01-P